ENVIRONMENTAL PROTECTION AGENCY

[FRL-9916-20-OECA]

Recent Postings to the Applicability Determination Index Database System of Agency Applicability Determinations, Alternative Monitoring Decisions, and Regulatory Interpretations Pertaining to Standards Under the Clean Air Act

AGENCY: Environmental Protection Agency.

ACTION: Notice of availability.

SUMMARY: This notice announces applicability determinations, alternative monitoring decisions, and regulatory interpretations that EPA has made under the New Source Performance Standards (NSPS); the National Emission Standards for Hazardous Air Pollutants (NESHAP); and/or the Stratospheric Ozone Protection Program.

FOR FURTHER INFORMATION CONTACT: An electronic copy of each complete document posted on the Applicability Determination Index (ADI) database system is available on the Internet through the Office of Enforcement and Compliance Assurance (OECA) Web site at: http://www.epa.gov/compliance/monitoring/programs/caa/adi.html. The letters and memoranda on the ADI may be located by control number, date, author, subpart, or subject search. For questions about the ADI or this notice, contact Maria Malave at EPA by phone at: (202) 564-7027, or by email at: malave.maria@epa.gov. For technical questions about individual applicability determinations or monitoring decisions, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR 60.5 and 61.06. Although the NESHAP part 63 regulations [which include Maximum Achievable Control Technology (MACT) standards] and section 111(d) of the Clean Air Act (CAA) contain no specific regulatory provision providing that sources may request applicability determinations, EPA also responds to written inquiries regarding applicability for the part 63 and section 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations. EPA currently compiles EPA-issued NSPS and NESHAP applicability determinations, alternative monitoring decisions, and regulatory interpretations, and posts them to the Applicability Determination Index (ADI). In addition, the ADI contains EPA-issued responses to requests pursuant to the stratospheric ozone regulations, contained in 40 CFR part 82. The ADI is an electronic index on the Internet with over three thousand EPA letters and memoranda pertaining to the applicability, monitoring, recordkeeping, and reporting requirements of the NSPS, NESHAP, and stratospheric ozone regulations. Users can search for letters and memoranda by date, office of issuance, subpart, citation, control number, or by string word searches. Today's notice comprises a summary of 64 such documents added to the ADI on August 6, 2014. This notice lists the subject and header of each letter and memorandum, as well as a brief abstract of the letter or memorandum. Complete copies of these documents may be obtained from the ADI through the OECA Web site at: www.epa.gov/compliance/monitoring/programs/caa/adi.html.

Summary of Headers and Abstracts

The following table identifies the database control number for each document posted on the ADI database system on August 6, 2014; the applicable category; the section(s) and/or subpart(s) of 40 CFR parts 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA section 307(b)(1). For example, this notice does not convert an applicability determination for a particular source into a nationwide rule. Neither does it purport to make a previously non-binding document binding.

ADI Determinations Uploaded on August 6, 2014
Control No. | Categories | Subparts | Title
1200009 | NSPS | OOO, UUU | Request for Force Majeure Delay for an Initial Performance Test for a Crusher and Calciner Facility.
1200024 | NSPS | J | Request for Exemption in Lieu of AMP for Combusting an Inherently Low Sulfur Gas Vent Stream from a Continuous Catalytic Reformer at a Refinery.
1200033 | NSPS | JJJJ, KKK | Request for Clarification of Applicability to Fuel Gas Treatment Unit at Compressor Station.
1200043 | NSPS | J | Request for Alternate Monitoring Plan for Monitoring H2S AMP in Lieu of CEMS at a Refinery.
1200047 | NSPS | EEEE, FFFF | Request for Exemption of Contraband Incinerator Based on the Owner and Operator Definition.
1200048 | NSPS | J | Request for Exemption in Lieu of AMP for Combusting an Inherently Low Sulfur Gas Vent Stream at a Refinery.
1200049 | NSPS | D | Boiler Derate not Approved for Changes only on Fuel Feed System.
1200052 | NSPS | VVa | Request for Clarification of Initial Monitoring Requirement for Pumps and Valves for New Process Units.
1200053 | NSPS | J | Request for Alternate Monitoring Plan for Vented Gas Stream with an Inherently Low and Stable Amount of H2S.
1200056 | NSPS | J | Request for Exemption in Lieu of AMP for Combusting an Inherently Low Sulfur Gas Vent Stream from a Cyclic Reformer Caustic Scrubber at a Refinery.
1200058 | NSPS | J | Request for Exemption in Lieu of AMP for Combusting an Inherently Low Sulfur Gas Vent Stream at a Refinery.
1200059 | NSPS | J | Exemption in Lieu of AMP-Merox Disulfide Separator Vent Stream—NSPS Subpart J—Chalmette Refining—Chalmette, Louisiana Refinery.
1200064 | NSPS | J | Request for Exemption in Lieu of AMP for Combusting an Inherently Low Sulfur Gas Vent Stream from a Continuous Catalytic Reformer at a Refinery.
1200074 | NSPS | J | Request for Exemption in Lieu of AMP for Combusting an Inherently Low Sulfur Gas Vent Stream at a Refinery.
1200080 | NSPS | J | Request for Alternate Monitoring Plan for Sour Water Tanks at a Refinery.
1200086 | NSPS | OOO | Initial Performance Testing Waiver for an NSPS Facility that Operates Very Infrequently.
1200088 | NSPS | WWW | Request for Approval to Continue Operating Wells at a Closed Landfill Despite Instances of Positive Pressure.
1200093 | NSPS | LL | Request for Applicability Determination for Dust Collector Emissions at Conveyor Belt Transfer Points in a Metallic Mineral Processing Facility.
1200094 | NSPS | WWW | Alternative Monitoring Plan for Higher Operating Temperatures for Five Gas Wells.
1400001 | NSPS | WWW | Request for Use of Alternative Span Value for Nitrogen Oxide CEMs at Landfill.
1400002 | NSPS | KKKK, ZZZZ | Request to Determine if Stationary Reciprocating Internal Combustion Engines (RICE) Meet Institutional Emergency Definition.
1400004 | NSPS | Ce, WWW | Request for Applicability Determination on Landfill Thresholds.
1400006 | NSPS | J, Ja | Request for Alternative Monitoring Plan for Monitoring Hydrogen Sulfide (H2S) in Tank Degassing Vapors Combusted in Portable Thermal Oxidizers at Petroleum Refineries.
1400007 | MACT, NSPS | J, UUU | Alternative Monitoring Plan for Opacity for a Fluid Catalytic Cracking Unit Regenerator.
1400008 | NSPS | WWW | Request for Alternative Compliance Remedy/Schedule to Correct Surface Emissions Exceedances at Landfill.
1400009 | NSPS | WWW | Request for Alternative Monitoring using a Higher Operating Value for Oxygen for a Landfill Gas Collector.
1400010 | NSPS | Db | Alternative Span Value for Nitrogen Oxide CEMs.
1400011 | NSPS | J | Request for Exemption in Lieu of Alternative Monitoring Plan for Fuel Gas Streams Routed From Caustic Regeneration Unit to Furnaces.
1400012 | NSPS | J, Ja | Alternative Monitoring Plan for Hydrogen Sulfide (H2S) in Tank Degassing Vapors Combusted in Portable Thermal Oxidizers at Petroleum Refineries.
1400013 | NSPS | WWW | Request for Alternative Compliance Timeline for Landfill Gas Extraction Well.
1400014 | MACT, NSPS | EEEEE, UUU | Alternative Monitoring Request for a New Sand Cooler at an Iron Foundry.
1400015 | MACT, NSPS | EEEEE, UUU | Alternative Monitoring Request for a New Sand Cooler at an Iron Foundry.
1400017 | NSPS | EEEE | Request for Alternative Monitoring Plan for a Continuous Emission Monitoring System for a Commercially Operated Contraband Incinerator.
1400018 | MACT, NSPS | EEEE, HHHHH, JJJJ, KK, RR, SSSS, TT | Request for Several MACT/NSPS Applicability Determinations for Different Process at a Print Station Facility.
1400020 | NSPS | WWW | Request for Alternative Remedy and Compliance Timeline for a Landfill Gas Extraction Well.
A140001 | Asbestos | M | Applicability of Test Methods to Asbestos-Containing Bulk Samples.
A140002 | Asbestos | M | Request for Determination on whether maintenance of High Voltage Electric Transmission Towers is Renovation or Demolition.
M110009 | MACT | XXXXXX | Request for Clarification of Applicability of Metals Processing Operations at an Orthopedic Components Manufacturer.
M110010 | MACT | ZZZZ | Request for Exemption as Emergency Engines for Stationary Reciprocating Internal Combustion Engines.
M110011 | MACT, NESHAP | TTTTTT | Request for Clarification of Applicability of Rule to a Precious Metals Melting Operation.
M110012 | MACT | JJJJJ | Request for Clarification of Wood-Fired Boiler Source Categorization.
M110013 | MACT | WWWWWW | Alternative Monitoring Plan for Batch Electrolytic Process Tanks at a Media Replication Facility.
M110014 | MACT | WWWW | Clarification on Monthly Compliance Demonstration for Hazardous Air Pollutants for Open Moulding Operations.
M110016 | MACT, NESHAP | JJJJJJ | Request for Clarification of Applicability to Electric Boilers when Burning Fuel Oil as a Backup Fuel.
M110017 | MACT | EEE | Request to Revise Alternative Monitoring Plan for Deactivation Furnace System of a Hazardous Waste Combustor.
M110018 | MACT | CCCCCCC, VVVVVV | Request for Alternative Compliance Methods for Hazardous Air Pollutants for an Area Source.
M120009 | MACT | LLL | Request for Approval of Alternate Test Method for Demonstrating Compliance with Particulate Emissions Standards for a Portland Cement Facility.
M120013 | MACT | MMM, NNNNN | Request to Waive pH Monitoring Requirement for Control of Emissions from Tank Truck Loading and Storage Tanks.
M120026 | MACT | JJJJ | Use of Alternative Comparative Monitoring in lieu of Calibration Verification Requirements.
M120034 | MACT, NSPS | IIII, JJJJ, ZZZZ | Reciprocating Internal Combustion Engine Overhaul does not trigger Reconstruction and Modification because of Costs and Unaltered Emissions.
M120035 | MACT | MMMM, XXXXXX | Clarification on Applicability of Area Source Requirements for a Metal Fabrication and Finishing Source Facility.
M130003 | MACT | ZZZZ | Request to Waive an Initial Performance Test for Identical RICEs at a HAP Area Source.
M140001 | MACT | EEE | Request Alternative Operating Parameter Limit for Liquid Waste Firing System.
M140002 | MACT, NESHAP, NSPS | EEEE, JJJJJJ | Energy Recovery and Syngas Exemption Request for a Gasification Unit.
M140003 | MACT, NESHAP | DDDDD, JJJJJJ, PPPPP, T, ZZZZ | Exemption of Halogenated Solvent Cleaning, Stationary RICE, and Institutional Boilers for Vehicle Facility.
M140004 | MACT | UUU | Alternative Monitoring Method for Sulfur Dioxide Emissions During Emission Control Device Malfunctions or Down Time.
M140005 | MACT | UUU | Alternative Monitoring Plan for Calculation of Flue Gas Flow Rate in Lieu of Direct Measurement.
M140007 | NESHAP, NSPS | DDDDD, A, Db | Force Majeure Determination for a new biomass-fired cogeneration boiler.
Z120003 | NESHAP | FF | Request for Clarification on Applicability to Sour Water Streams Managed Upstream of a Refinery Sour Water Stripper.
Z130002 | NESHAP | JJJJJJ | Request for Clarification of Steam Boiler Exemption for Mixed Residential and Commercial Use.
Z130003 | NESHAP | N | Request for Approval of the Use of Closed/Covered Electroplating and Anodizing Tanks in order to Satisfy Physical Barrier Requirements.
Z140001 | MACT, NESHAP, NSPS | BBBBBB, Kb, R, WW | Alternative Monitoring Request for Use of Top-side in-service Inspection Methodology for Internal Floating Roof Storage Tanks.
Z140002 | MACT, NESHAP | EEEE, GGGG | Regulatory Interpretation of Solvent Transfer Racks and Equipment for Vegetable Oil Production Plant.
Z140003 | NESHAP, NSPS | IIII | Petition for Additional Testing Hours for an Emergency Generator.

Abstracts

Abstract for [1200009]

Q1: Does EPA consider, as force majeure, certain weather conditions that prevented initial stack tests from being conducted before the compliance deadline under 40 CFR part 60, subparts OOO and UUU, at a Cadre Material Products (Cadre) in Voca, Texas?

A1: Yes. EPA finds that certain events, such as an ice storm, may be considered, dependent upon the circumstances specific to each event, as force majeure under 40 CFR part 60 subpart A. The ice storm, and the resultant amount of time necessary to complete repairs to equipment damaged solely as a result of the weather event, is beyond the control of the company. EPA will grant a one-week extension.

Q2: Does EPA consider, as force majeure, certain contract disputes between the company and its contractor over production testing and plant operation at the same facility.

A2: No. EPA does not consider that this qualifies as a force majeure event since it was not beyond the control of the company. EPA will not grant an extension.

Abstract for [1200024]

Q: Does EPA approve an exemption in lieu of an Alternative Monitoring Plan (AMP) for combusting the off gas vent stream from a continuous catalytic reformer (PtR-3) as an inherently low-sulfur stream under 40 CFR part 60 subpart J, at the ExxonMobil Beaumont Refinery located in Beaumont, Texas?

A: Yes. EPA determined that a monitoring exemption is appropriate for the vent stream combusted in the continuous catalytic reformer (PtR-3), and therefore, the AMP request is no longer needed, based on the process operating and monitoring data submitted by the company and in light of changes made to Subpart J on June 24, 2008 (73 FR 35866). EPA agreed that the vent stream combusted in the fuel gas combustion device (FGCD) is inherently low in sulfur, and thus, meets the exemption criteria in 40 CFR 60.105(a)(4)(iv)(C). EPA agreed that the FGCD is exempt from monitoring requirements of 40 CFR 60.l05(a)(3) and (4). If the sulfur content or process operating parameters for the vent stream change from representations made for the exemption determination, the company must document the changes, re-evaluate the vent stream characteristics, and follow the appropriate steps outlined in 60.105(b)(3)(i) through (iii). The exemption determination should also be referenced and attached to the facility's new source review and Title V permit for federal enforceability.

Abstract for [1200033]

Q: The Oklahoma Department of Environmental Quality (OK DEQ) has requested a determination on whether a fuel gas treatment unit at the Atlas Pipeline Mid-Continent Herron Compressor Station in Oklahoma is subject to NSPS Subpart KKK if it extracts heavy hydrocarbons from field gas prior to its use as a fuel for engines subject to 40 CFR part 60 subpart JJJJ, but does not sell the field gas?

A: Based on the information provided by OK DEQ, EPA has determined that a facility does not have to sell liquids to be considered a natural gas processing plant under 40 CFR part 60 subpart KKK, and there is no specific operating temperature criteria for a facility to be considered as engaged in the extraction of natural gas liquids. The only temperature criteria mentioned in 40 CFR part 60 subpart KKK is in the definition of equipment in light liquid service.

Abstract for [1200043]

Q: Does EPA approve an Alternative Monitoring Plan (AMP) for monitoring hydrogen sulfide (H2S) in lieu of installing a continuous emission monitoring system (CEMS) for a refinery truck loading rack off-gas vent stream combusted at a thermal oxidizer under 40 CFR part 60 subpart J at the Valero Refining Corpus Christi, Texas West refinery?

A: Yes. EPA conditionally approves Valero AMP, based on the description of the process vent stream, the design of the vent gas controls, and the H2S monitoring data furnished. Valero AMP approval is conditioned on following the seven step process detailed in EPA's guidance for Alternative Monitoring Plans for 40 CFR part 60 subpart J relative to monitoring the facility's proposed operating parameter limits (OPLs).

Abstract for [1200047]

Q: Does Kippur Corporation's El Paso, Texas Other Solid Waste Incinerator (OSWI), which is used to combust contraband, qualify for the exclusion from 40 CFR part 60 subpart EEEE or subpart FFFF under 40 CFR 60.2993(p), if the unit is owned and operated by a non-government (commercial) entity, but where a government agency representative maintains a supervisory and oversight role of handling of the contraband feed while the owner/operator's employees start and operate the incinerator?

A: No. EPA further clarified the exclusion of 40 CFR 60.2993(p) in the preamble to the OSWI final rule, published on December 16, 2005, to state that the exclusion applies only to goods confiscated by a government agency. In addition, the Ninth Circuit Court of Appeals has defined the term supervisor in the context of the definition of owner or operator provided in the Clean Air Act. The court held that substantial control is the governing criterion when determining if one is a supervisor. The Court elaborated that significant and substantial control means having the ability to direct the manner in which work is performed and the authority to correct problems. Based on review of the information provided, EPA did not consider USCBP to be an operator of the incinerator. The training requirements of 40 CFR 60.3014 for OSWI unit operators also demonstrate that EPA intended the operator of an OSWI incinerator be physically in control of the system or the direct supervisor of someone who is physically operating the incinerator. U.S. Customs and Border Protection (USCBP) is only in control of feeding the contraband to the incinerator, presumably for custody control, but not for any operative purpose. Since USCBP is not in control of the incinerator itself, the Kippur OSWI unit is not exempt and must comply with either 40 CFR part 60 subpart EEEE or subpart FFFF.

Abstract for [1200048]

Q: Does EPA approve an exemption in lieu of an Alternative Monitoring Plan (AMP) for combusting a vent stream from a hydrogen plant's steam methane reformer (SMR) degassifier knockout drum as an inherently low-content sulfur stream under 40 CFR part 60 subpart J, at the Valero Corpus Christi East Plant (Valero) in Corpus Christi, Texas?

A: Yes. EPA determined that a monitoring exemption is appropriate for the vent stream, and EPA voided the AMP request based on the process and monitoring data provided, and in light of changes made to subpart J on June 24, 2008 (73 FR 35866). EPA agreed that the flare is exempt from monitoring requirements of 40 CFR 60.105(a)(3) and (4). The vent stream combusted in the flare is inherently low in sulfur because it is produced in a process unit intolerant to sulfur contamination, and thus, meets the exemption in 40 CFR 60.105(a)(4)(iv)(C). If refinery operations change from representations made for this exemption determination, then Valero must document the change(s) and follow the appropriate steps outlined in 40 CFR 60.105(b)(3)(i) through (iii).

Abstract for [1200049]

Q: Does EPA approve the request from Domtar Paper Company (Domtar), LLC, in Plymouth, North Carolina to derate the capacity of a boiler (HFBI) to less than 250 mmBtu/hr in order that it will no longer be subject to 40 CFR part 60 subpart D?

A: No. EPA has determined that Domtar's proposed derate for coal firing procedure is not acceptable, as it does not meet EPA's criteria for derate of boilers based on the description in Domtar's request, as indicated to the North Carolina Department of Environment and Natural Resources. The proposed derate procedure is based only on changes to the fuel feed system and does not reduce the capacity of the boiler. Domtar indicates that they must maintain the ability to use hog fuel at a heat input greater than 250 million Btu/hr for HFB1 and cannot make changes to the induced draft fan to reduce the boiler capacity.

Abstract for [1200052]

Q1: The Alabama Department of Environmental Management (AL DEM) requests clarification of the initial monitoring requirements for pumps and valves for new process units subject to 40 CFR part 60 subpart VVa. Under 40 CFR part 60 subpart VVa, is a new facility required to initially monitor pumps and valves within 30 days of startup of a new process unit or within 180 days of startup of the process unit?

A1: The NSPS Subpart VVa requires initial monitoring of pumps and valves for a new process unit to be conducted within 30 days after the startup of a new process unit. Section 60.482-2a(a)(1) requires monthly monitoring to detect leaks from pumps in light liquid service. Section 60.482-7a(a) requires monthly monitoring to detect leaks from valves in gas/vapor service and in light liquid service. Further, § 60.482-1a(a) requires an initial compliance demonstration within 180 days of initial startup of the valve or pump, and does not provide a grace period during which a facility is exempt from the work practice standards of Subpart VVa and the requirement to conduct monthly monitoring of pumps and valves.

Q2: Under 40 CFR part 60 subpart VVa, what is the initiation of monthly monitoring for pumps and valves which do not begin service at the initial startup of a process unit but are placed in service over time?

A2: For both pumps and valves, 40 CFR part subpart VVa requires that monthly monitoring of the pump or valve is to begin within 30 days after the end of its startup period to ensure proper installation. This requirement is addressed in 40 CFR 60.482-2a(a)(1) for pumps in light liquid service and in 40 CFR 60.482-7a(a)(2) for valves in gas/vapor service or light liquid service.

Abstract for [1200053]

Q: Does EPA approve an Alternate Monitoring Plan for an inherently low-sulfur gas stream from the Caustic Vent Degasser vented to a flare at the Marathon Petroleum Company LLC (MPC) in Robinson, Illinois?

A: Yes. EPA conditionally approves MPC's Alternate Monitoring Plan for the Caustic Tank Degasser vent to flare based on the process description and the data showing the low and stable H2S content of the stream. MPC will continue to monitor the NaOH (caustic strength) in the spent caustic wash streams in lieu of continuously monitoring this combined stream, and the proposed sampling schedule will be implemented quarterly until December 2013, and thereafter EPA requires sampling frequency on a biannual basis. The biannual sampling will be performed with a minimum of three months between the collections of the samples. If at any time the sample results from a single detector tube are equal to or greater than 81 ppm H2S, MPC must follow the procedures and notification requirements established in the EPA response letter.

Abstract for [1200056]

Q: Does EPA approve an exemption in lieu of an Alternative Monitoring Plan (AMP) for combusting a vent stream from a cyclic reformer caustic scrubber in a process furnace as an inherently low-sulfur stream under 40 CFR part 60 subpart J, at the British Petroleum's Texas City, Texas refinery?

A: Yes. EPA determined the cyclic reformer caustic scrubber vent stream, and therefore the AMP request is no longer needed, based on the process operating parameters and monitoring data submitted by the company and in light of changes made to Subpart J on June 24, 2008 (73 FR 35866). EPA agreed that the process furnace is exempt from monitoring requirements of 40 CFR 60.105(a)(3) and (4). The vent stream combusted in the furnace is inherently low in sulfur because it is produced in a process unit intolerant to sulfur contamination, and thus, meets the exemption criteria in 40 CFR 60.105(a)(4)(iv)(C). If it is determined that the stream is no longer exempt, continuous monitoring must begin within 15 days of the change, in accordance with 40 CFR 60.105(a)(4)(iv).

Abstract for [1200058]

Q: Does EPA approve an exemption in lieu of an Alternative Monitoring Plan (AMP) for combusting vent streams from two continuous catalytic reformer unit lock hoppers in a flare as an inherently low-sulfur stream under 40 CFR part 60 subpart J, at the Chalmette Refining, Chalmette), Louisiana refinery?

A: Yes. EPA determined that a monitoring exemption is appropriate for the continuous catalytic reformer unit lock hopper vent streams, and EPA voided the AMP request based on the process operating parameters and monitoring data submitted by Chalmette and in light of changes made to subpart J on June 24, 2008 (73 FR 35866). EPA agreed that the flare is exempt from monitoring requirements of 40 CFR 60.105(a)(3) and (4). The vent streams combusted in the flare are inherently low in sulfur because they are produced in a process unit intolerant to sulfur contamination, and thus, meet the exemption criteria in 40 CFR 60.105(a)(4)(iv)(C). If Chalmette determines that the streams no longer meet the exempt criteria as a result of refinery operations change(s), then Chalmette must document the change(s) and must begin continuous monitoring within 15 days of the change, in accordance with 40 CFR 60.105(a)(4)(iv).

Abstract for [1200059]

Q: Does EPA approve an exemption in lieu of an Alternative Monitoring Plan (AMP) for combusting a vent stream from an alkylation unit Merox disulfide separator in a reboiler heater as an inherently low-sulfur stream under 40 CFR part 60 subpart J, at the Chalmette Refining, Chalmette, Louisiana refinery?

A: Yes. EPA determined that a monitoring exemption is appropriate for the alkylation unit Merox separator vent stream, and therefore the AMP request is no longer needed, based on the process operating parameters and monitoring data submitted by Chalmette and in light of changes made to subpart J on June 24, 2008 (73 FR 35866). EPA agreed that the reboiler heater is exempt from monitoring requirements of 40 CFR 60.l05(a)(3) and (4). The vent stream combusted in the heater is inherently low in sulfur because it is produced in a process unit intolerant to sulfur contamination, and thus, meets the exemption criteria in 40 CFR 60.105(a)(4)(iv)(C). EPA also clarified that, if refinery operations change such that the sulfur content for the vent stream changes such that it no longer meets the exemption criteria, continuous monitoring must begin within 15 days of the change, in accordance with 40 CFR 60.105(a)(4)(iv).

Abstract for [1200064]

Q: Does EPA approve an exemption in lieu of an Alternative Monitoring Plan (AMP) for combusting the vent stream from a continuous catalytic reformer unit lock hopper in two reformer heaters as an inherently low-sulfur stream under 40 CFR part 60 subpart J, at the ExxonMobil's Beaumont, Texas refinery?

A: Yes. EPA determined that a monitoring exemption is appropriate for the continuous catalytic reformer unit lock hopper vent stream, and EPA voided the AMP request based on the process operating parameters and monitoring data submitted by ExxonMobil and in light of changes made to subpart J on June 24, 2008 (73 FR 35866). Based on review of the information provided, EPA agreed that the reformer heaters are exempt from monitoring requirements of 40 CFR 60.105(a)(3) and (4). The vent stream combusted in the heaters is inherently low in sulfur because it is produced in a process unit intolerant to sulfur contamination, and thus, meets the exemption in 40 CFR 60.105(a)(4)(iv)(C). If it is determined that the stream is no longer exempt, continuous monitoring must begin within 15 days of the change, in accordance with 40 CFR 60.105(a)(4)(iv).

Abstract for [1200074]

Q: Does EPA approve an exemption in lieu of an Alternative Monitoring Plan (AMP) for combusting the off gas vent stream from a hydrogen plant pressure swing adsorption (PSA) unit in a flare as an inherently low-sulfur stream under 40 CFR part 60 subpart J, at the Valero Refining East Refinery in Corpus Christi, Texas?

A: Yes. EPA determined that a monitoring exemption is appropriate for the hydrogen plant PSA vent stream, and EPA voided the AMP request based on the process operating parameters and monitoring data submitted by Valero and in light of changes made to subpart J on June 24, 2008 (73 FR 35866). Based on review of the information provided, EPA agreed that the flare is exempt from the monitoring requirements of 40 CFR 60.105(a)(3) and (4). The vent stream combusted in the flare is inherently low in sulfur because it is produced in a process unit intolerant to sulfur contamination, and thus, meets the exemption in 40 CFR 60.105(a)(4)(iv)(C). If it is determined that the vent stream is no longer exempt, continuous monitoring must begin within 15 days of the change, in accordance with 40 CFR 60.105(a)(4)(iv).

Abstract for [1200080]

Q: Does EPA approve the Alternative Monitoring Plans (AMPs) for monitoring hydrogen sulfide (H2S) in lieu of installing a continuous emission monitoring system (CEMS) for three sour water tank off-gas vent streams, subject to 40 CFR part 60 subpart J, that are combusted in two sulfur recovery unit tail gas incinerators at the Valero Refining facility in Houston, Texas?

A: No. EPA does not approve Valero's proposed AMPs for the off-gas vent streams from the three sour water tank off-gas vent streams because the necessary fuel gas system and stream sampling data was not provided to demonstrate that the fuel gas streams are sufficiently low in sulfur content or to establish appropriate alternative monitoring methods, parameters, and frequencies to ensure inherently low and stable H2S content of the off-gas vent streams to be combusted at the incinerators.

Abstract for [1200086]

Q: Does EPA approve a waiver of the initial performance test under the NSPS for Non-metallic Mineral Processing Plants for the Emission Unit PO 14 at the Carmeuse Industrial Sands, Millwood Operation in Howard, Ohio? The Emission Unit PO 14 is operated infrequently and for short durations, and the plant lacks testing facilities.

A: Yes. EPA approves this waiver request because the facility is operated for small amounts of time per day, which is not sufficient to implement a Method 5 or 17 performance test meeting the requirements in this standard. However, EPA does not consider a lack of testing facilities as a valid reason to waive a test and points out that construction of a source subject to testing requirements in a manner that prevents it from being tested might be considered circumvention under the General Provisions. In addition, EPA approves all determinations on a case-by-case basis and is not necessarily bound by previous determinations.

Abstract for [1200088]

Q1: Does EPA approve the continued operation of several gas wells at the closed Willowcreek Landfill in Atwater, Ohio without expansion of the gas collection system, despite instances of positive pressure and oxygen exceedance under the NSPS for Landfills?

A1: Yes. EPA approves the continued operation of the Willowcreek wells without expansion of the collection system because they are showing signs of declining gas quality and expansion of the system is expected to be of little to no value.

Q2: Does EPA approve the continued operation of other wells that in the future may experience the same conditions at the Willowcreek Landfill?

A2: EPA does not provide a blanket approval for all future wells experiencing the same conditions. Expansion of this alternative monitoring approval will require subsequent requests.

Abstract for [1200093]

Q: Are the emissions from AIRS ID 060 and 079 from dust collectors at the top of enclosed conveyor belt transfer points “process fugitive emissions” subject to the standard outlined in 40 CFR 60.382(b) or “stack emissions” subject to the standards in 40 CFR 60.382(a) of NSPS Subpart LL, which are located at the Climax Molybdenum facility in Leadville, CO?

A. The EPA determines that the fugitive emissions from the dust collectors utilized by AIRS ID 060 and 079 are “stack emissions,” as these are being released through a “stack, chimney, or flue” and will be “released to the atmosphere.” In addition, the process fugitive emission standard applies to “emissions from an affected facility that are not collected by a capture system.” Therefore, the emissions from the dust collectors are not “process fugitive emissions” since these emissions are being captured and controlled and are not emissions that have escaped control.

Abstract for [1200094]

Q: Does EPA approve Elk River Landfill, Incorporated's alternative monitoring request under 40 CFR 60.753(c) of the Landfill NSPS, Subpart WWW, for a variance of the operating temperature for five gas wells at Elk River Landfill in Elk River, Minnesota?

A: Yes. EPA approves Elk's request for an alternative operating temperature for the five gas wells. Based on the supporting information, the higher operating gas temperatures do not significantly inhibit anaerobic decomposition by killing methanogens and do not cause subsurface landfill fire at the site. Therefore, EPA approves Elk River Landfill's request for an operating temperature of 155 °F for gas well numbers EREW35R2, EREW0042, EREW045R, EREW0066, and ERHC0010.

Abstract for [1400001]

Q: Does EPA approve a request from Advanced Disposal Service (ADS) to use an alternate span value of 50 parts per million by Volume (ppmV) in lieu of 500 ppmV required by 40 CFR 60.48b(e)(2) for the nitrogen oxide continuous emission monitors (CEMs) on each of two process heaters at the Rolling Hills Landfill (RHLF) in Buffalo, Minnesota?

A: Yes. EPA approves the use of the alternate span value for the two process heaters' CEMs. EPA concludes that the span will be more appropriate for the typical range of emission concentrations and that the span will yield more accurate measurement(s) during normal operating conditions.

Abstract for [1400002]

Q. Do the Stationary Reciprocating Internal Combustion Engines (RICE) powering floodwater pumps and associated generators at the U.S. Army Corps of Engineers (USACE), W.G. Huxtable Pumping Plant, Lee County, Arkansas, meet the definition of an institutional emergency RICE under 40 CFR part 63, subpart ZZZZ?

A. Yes. EPA determines that the RICE SN-01 through SN-13 pumps and associate generators meet the definition of institutional emergency at 40 CFR 63.6675 because these are located at an area source facility for HAPs and are only used when significant flooding occurs. Specifically, pumping does not begin until the water level on the downstream (Mississippi River) side of the facility is higher than the water on the upstream side, a condition that would only happen in the case of significant flooding. Also, these engines are located at a facility with a North American Industry Classification System (NAICS) code of 924110. This NAICS code is on the list of codes that identifies the types of facilities that would be considered residential, commercial, or institutional, provided as guidance by the EPA after the RICE NESHAP was published. Therefore, the engines are existing institutional emergency stationary RICE located at an area source of hazardous air pollutant (HAP) emissions, not subject to the RICE NESHAP per the exemption in 40 CFR 63.6585(f)(3).

Abstract for [1400004]

Q1: Does EPA concur that design capacity for municipal solid waste (MSW) of the Advanced Disposal Service (ADS) Rolling Hills Landfill (RHLF) in Buffalo, Minnesota, is less than 2.5 million megagrams (2.7 million tons) and 2.5 million cubic meters (3.3 million cubic yards) for purposes of NSPS Subpart WWW rule?

A1: No. EPA concludes that the design capacity of the ADS RHLF is greater than 2.5 million megagrams and 2.5 million cubic meters based on the definition of “MSW landfill” and of “design capacity” in Subpart WWW. EPA concludes that the RHLF's MSW landfill consists of the entire disposal facility in a contiguous geographical space. EPA calculated the RHLF's design capacity as the sum of the design capacity for each waste disposal area in the most recent permit, which lists the authorized waste disposal activities.

Q2: Are the Landfill NSPS applicability thresholds based not only on physical volumes or masses but also upon the state regulatory environment, recycling mandates, and intercounty solid waste planning directives?

A2: EPA determines that the state restrictions and limitations on the types of waste that the RHLF has been allowed to accept cannot reduce the design capacity below the Landfill NSPS applicability thresholds. The NSPS does not distinguish nonmethane organic compounds (NMOC) emissions generated from MSW and those generated from non-MSW. Consequently, even though restrictions on the types of waste that the RHLF has been allowed to accept may be federally enforceable under the federal SWDA, EPA concludes that ADS may not exclude the volume and mass of non-MSW from the calculation of the RHLF's design capacity.

Abstract for [1400006]

Q: Can EPA approve an Alternative Monitoring Plan (AMP) for Envent Corporation to conduct monitoring of hydrogen sulfide (H2S) emissions, in lieu of installing a continuous emission monitoring system (CEMS), when performing tank degassing and other similar operations controlled by portable, temporary thermal oxidizers, at refineries in Region 6 States that are subject to NSPS subparts J or Ja?

A: Yes. EPA conditionally approved the AMP based on the description of the process, the vent gas streams, the design of the vent gas controls, and the H2S monitoring data furnished. EPA included proposed operating parameter limits (OPLs) and data which the refineries must furnish as part of the conditional approval. The approved AMP applies only to similar degassing operations conducted by ENVENT at refineries in EPA Region 6.

Abstract for [1400007]

Q. Does EPA approve the Holly Frontier Corporation, Holly Refining & Marketing Company—Woods Cross's (Holly's) alternative monitoring plan (AMP) for monitoring opacity from the fluid catalytic cracking unit (FCCU) regenerator since moisture in the wet gas scrubbers to the FCCU causes interference with opacity monitors, making the results unreliable?

A. Yes. EPA conditionally approves Holly's AMP request to monitor alternative operating parameters in its wet gas scrubber since these ensure optimum collection efficiency for particulates. The Holly AMP approval is conditional on maintaining liquid flow to the nozzles in the absorber tower vessel and the filtering modules, and ensuring a minimum pressure drop across the filtering modules.

Abstract for [1400008]

Q: Does EPA approve the alternate compliance remedies to correct the surface scan emissions exceedances that occurred during the surface emissions monitoring (SEM) event at five designated locations at the Settle's Hill Recycling and Disposal Facility (Settle's Hill) and Midway Landfill in Batavia, Illinois?

A: Yes. EPA conditionally approves this request for alternative compliance remedies that involve installing dewatering pumps in several gas extraction wells in the vicinity of the exceedances, further enhancement of the landfill gas collection and control system (GCCS), further enhancement of the landfill cap with the placement of additional soil cover and corresponding schedule for locations designated as EX-1, -2, -3, -5, and -6 at the Midway Landfill and Settler's Hill. The condition for approval requires that the remedies eliminate methane exceedances at the locations listed above. If such is not the case in subsequent SEM, beginning December 6, 2012, more aggressive measures will be required to reduce surface emissions at both the Midway Landfill and Settler's Hill to ensure compliance.

Abstract for [1400009]

Q: Does EPA approve a higher operating value for oxygen concentration under NSPS Subpart WWW for a well collector at the Roxana Landfill, Incorporated facility located in Roxana, Illinois?

A: No. EPA does not approve Roxana's request because the criteria for approval of a higher operating value for oxygen concentration at Roxana's Collector Well 0TD1 under the provisions in 40 CFR 60.753(c) of NSPS Subpart WWW has not been met. In order to approve a higher oxygen operating value, 40 CFR 60.753(c) requires, “data that shows the elevated parameter does not cause fires or significantly inhibit anaerobic decomposition by killing methanogens.”

Abstract for [1400010]

Q: Does EPA approve Flint Hills Resources' request to set the span value for the nitrogen oxide continuous emission monitors on each of two process heaters 25H1 and 25H3 at 50 parts per million by Volume (ppmV) rather than 500 ppmV as required by 40 CFR 60.48b(e)(2)?

A: Yes. EPA concludes that the span will be more appropriate for the typical range of emission concentrations and that the span will yield more accurate measurements during normal operating conditions.

Abstract for [1400011]

Q: Does EPA approve an exemption in lieu of Alternative Monitoring Plan (AMP) for monitoring hydrogen sulfide (H2S) rather than installing a continuous emission monitoring system (CEMS) for a refinery caustic regeneration unit off-gas vent stream combusted at two process furnaces under 40 CFR part 60 subpart J at the ExxonMobil refinery in Baton Rouge, Louisiana?

A: Yes. EPA conditionally approves the exemption under the seven step process detailed in EPA's guidance for Alternative Monitoring Plans for 40 CFR part 60 subpart J, based on the description of the process vent stream, the design of the vent gas controls, and the H2S monitoring data furnished. EPA included the facility's proposed operating parameter limits (OPLs), which the facility must continue to monitor, as part of the conditional approval.

Abstract for [1400012]

Q: Does EPA approve an Alternative Monitoring Plan (AMP) for Gem Mobile Services to conduct monitoring of hydrogen sulfide (H2S) emissions, in lieu of installing a continuous emission monitoring system (CEMS), when performing tank degassing and other similar operations controlled by portable, temporary thermal oxidizers, at refineries located in EPA Region 6 states that are subject to NSPS Subparts J or Ja?

A: Yes. EPA conditionally approves the AMP, based on the description of the process, the vent gas streams, the design of the vent gas controls, and the H2S monitoring data furnished. EPA included proposed operating parameter limits (OPLs) and data which the refineries must furnish as part of the conditional approval. The approved AMP is only for degassing operations conducted at refineries in EPA Region 6.

Abstract for [1400013]

Q: Does EPA allow an alternative compliance timeline for landfill gas extraction well at the American Disposal Services of Illinois, Inc. (ADSI)—Livingston Landfill facility located in Pontiac, Illinois?

A: No. EPA does not approve the request for an alternative compliance timeline for correcting the operational parameter exceedance at the ADSI's landfill gas extraction well LIV-GW22 (GW22). EPA did not approve an alternative compliance timeline because the request was for a potential situation that may or may not happen and may or may not cause a delay in construction. Such approval will only be granted if ADSI can establish that forces beyond its control prevent on-time compliance.

Abstract for [1400014]

Q: Does EPA approve a request to use a bag leak detection (BLD) system in lieu of continuous opacity monitoring (COM) or daily Method 9 visible emissions (VE) readings, as required by 40 CFR part 60, subpart UUU for monitoring the new thermal sand reclamation system being installed at the Thyssenkrupp Waupaca, Inc. (Waupaca) foundry (Plant I) in Wisconsin?

A: Yes. EPA conditionally approves the use of the BLD system at the new sand cooler for monitoring in lieu of a COM or daily VE readings to comply with subpart UUU rule. This approval is conditioned upon the BLD system being subject to the same installation, operation, maintenance, monitoring, recordkeeping, and notification provisions of 40 CFR part 63 subpart EEEEE, rule applicable to Waupaca since it is an iron and steel foundry.

Abstract for [1400015]

Q: Does EPA approve a request to use a bag leak detection (BLD) system in lieu of continuous opacity monitoring (COM) or daily Method 9 visible emissions (VE) readings, as required by 40 CFR part 60 subpart UUU for monitoring the new thermal sand reclamation system being installed at the Thyssenkrupp Waupaca, Inc. (Waupaca) foundry (Plants 2 and 3) in Wisconsin?

A: Yes. EPA conditionally approves use of the BLD system at the new sand cooler for monitoring in lieu of a COM or daily VE readings. This approval is conditioned upon the the BLD system being subject to the same installation, operation, maintenance, monitoring, recordkeeping, and notification provisions of 40 CFR part 63 subpart EEEEE, rule applicable to Waupaca since it is an iron and steel foundry.

Abstract for [1400017]

Q: Does the EPA approve a petition for approval of operating parameter limits (OPLs) in lieu of installing a wet scrubber, an initial performance test plan, and an initial relative accuracy test audit (RATA) protocol for a continuous emission monitoring system (CEMS) at a dual chamber, commercial incinerator which thermally destroys contraband for U.S. Customs and Border Protection (CBP) at the Southwest Border Incineration (SWBI) facility located in McAllen, Texas, and is subject to regulation as an “other solid waste incineration” (OSWI) unit under 40 CFR part 60 subpart EEEE?

A: Yes. EPA conditionally approves the SWBI's petition for establishing specific OPLs to be monitored, initial performance test plan, and the CEMS RATA protocol based on the information submitted to EPA since the rule requirements at 40 CFR 60.2917(a) through (e) and 40 CFR 60.2940(a) through (d) were met. Final approval of SWBI's petition will be based on the OPL range values and other conditions that are established from the results of the performance testing and the CEMS RATA.

Abstract for [1400018]

Q1. Is Coater A, part of a coating line that manufactures pressure sensitive tape and labels at the 3M print station facility in Hutchinson, Minnesota, which applies hot melt coating with zero potential VOC emissions and commenced construction after December 30, 1980, subject to 40 CFR part 60 subpart RR?

A1. Yes. Coater A meets the applicability criteria of affected facility in both 40 CFR 60.440(a) and (c), and is therefore subject to 40 CFR part 60 subpart RR. Since Coater A applies coatings with zero potential VOC emissions, it is not subject to the emission limits of 40 CFR 60.442(a). However, it is subject to the requirements of all other applicable provisions of 40 CFR part 60 subpart RR.

Q2. Is Coater B at 3M print station, which coats webs, including paper, film, and metal at two coating application stations, each followed by a drying oven, and a print station with a small oven for making product markings, and was installed in 1985 at the 3M facility in Rockland, Massachusetts, subject to 40 CFR part 60 subpart TT?

A2. Yes. Coater B meets the definitions in 40 CFR part 60 subpart TT of two affected facilities, a prime coat operation and a finish coat operation, and is thus subject to the rule requirements.

Q3. Is Coater B, a coating line which is used in the manufacture of pressure sensitive tape and label materials and was installed in 1985, also subject to 40 CFR part 60 subpart RR?

A3. Yes. Coater B meets the criteria in 40 CFR 60.440 and is, therefore, a 40 CFR part 60 subpart RR affected source subject to the rule requirements.

Q4. Is the 3M print station part of 40 CFR part 60 subpart TT or subpart RR affected facility?

A4. The print station is an affected facility under both 40 CFR part 60 subpart TT and 40 CFR part 60 subpart RR. Under subpart TT, the print station is an affected facility, because it meets the definition of an application system applying an organic coating in 40 CFR 60.461. The print station is also an affected facility under 40 CFR part 60 subpart RR, because it meets the definition of a precoat coating applicator in 40 CFR 60.441(a).

Q5. How would the analysis and conclusions for 40 CFR part 60 subpart RR change if the VOC input to the coating line had never exceeded 45 Mg VOC in any 12-month period?

A5. EPA finds this question outside the scope of an applicability determination, because it is hypothetical and contrary to the stated facts. However, in general, a facility that does not input to the coating process more than 45 MG (50 tons) of VOC per 12-month period is not subject to the emission limits in 40 CFR part 60 subpart RR.

Q6. When and how do the emissions limits of 40 CFR part 60 subpart TT and/or 40 CFR part 60 subpart RR apply?

A6. EPA finds this question outside the scope of an applicability determination, because it does not address applicability. However, in general, an NSPS affected facility is subject to the requirements of a rule at all times while engaged in activity that causes it to meet the definition of an affected facility. So, a 40 CFR part 60 subpart TT affected facility is subject to the rule while engaged in the activities of a metal coil surface coating operation. Similarly, a 40 CFR part 60 subpart RR affected facility is subject to the rule while engaged in the manufacture of pressure sensitive tape and labels. If a facility is subject to more than one NSPS, the facility must demonstrate compliance with each rule (i.e., keep records and calculate the emissions for activities in each applicable category).

Q7. Is Coater C, a major source of HAP emissions that applies coatings to several types of webs, including paper, film, and metal, and was installed in 1963 at the 3M facility in Hartford City, Indiana, subject to 40 CFR part 63 subpart SSSS?

A7. Yes. Coater C is an existing affected source under 40 CFR part 63 subpart SSSS, because it coats metal coil as defined in 40 CFR 63.5110 and was constructed before July 18, 2000. It does not qualify for the exemption in 40 CFR 63.5090(b)(2) because more than 15 percent of the metal coil coated, based on surface area, is greater than 0.15 millimeter (0.006 inch) thick.

Q8. Is Coater C located at the 3M facility in Hartford City, Indiana, also subject to 40 CFR part 63, subpart JJJJ rule requirements?

A8. No. Coater C is not subject to 40 CFR part 63 subpart JJJJ requirements, as long as it meets the 40 CFR part 63 subpart SSSS rule requirements. In 40 CFR part 63 subpart SSSS, owners/operators of facilities are provided the option that, if they are subject to both subparts, they can choose to comply with the requirements of 40 CFR part 63 subpart SSSS, and have that constitute compliance with 40 CFR part 63 subpart JJJJ, rather than complying with the requirements of both rules.

Q9. Is the 3M print station of Coater C an affected source under both 40 CFR part 63 subpart SSSS and 40 CFR part 63 subpart JJJJ?

A9. Yes. The print station of Coater C meets the applicability criteria of both 40 CFR part 63 subpart SSSS and 40 CFR part 63 subpart JJJJ. However, an owner/operator can choose to comply with the requirements of 40 CFR part 63 subpart SSSS and have that constitute compliance with 40 CFR part 63 subpart JJJJ. The print station meets the applicability criteria of 40 CFR part 63 subpart SSSS, because the inks applied by the print station are included in the definition of a coating. This coating is applied by the print station which meets the definition of a work station that operates on a coil coating line. For 40 CFR part 63 subpart JJJJ, the inks applied at the print station of Coater C meet the definition of a coating material in 40 CFR 63.3310 and are applied by the print station which meets the definition of a work station and operates on a web coating line.

Q10. When and how do the emissions limits of 40 CFR part 63 subpart SSSS and/or 40 CFR part 63 subpart JJJJ apply to 3M print station?

A10. EPA finds this question outside the scope of an applicability determination, because it does not question applicability. However, in general, a 40 CFR part 63 subpart SSSS affected source is subject to the rule at all times while engaged in activity that causes the facility to meet the definition of an affected facility. If the owner/operator does not choose to comply with 40 CFR part 63 subpart SSSS, or the affected facility is engaged in activities that do not meet the applicability criteria of 40 CFR part 63 subpart SSSS, then the affected facility could be subject to 40 CFR part 63 subpart JJJJ. The affected facility would be subject to 40 CFR part 63 subpart JJJJ only while engaging in activities that meet the definition of a 40 CFR part 63 subpart JJJJ affected source.

Q11. Is Coater D, located at the 3M facility in Hutchinson, Minnesota subject to 40 CFR part 63 subpart KK? The facility is a major source of HAP emissions and it is in a collection of web coating lines that are an existing affected source under MACT subpart JJJJ. Also present at the facility is a collection of wide-web flexographic printing presses which are an existing affected source under MACT Subpart KK. A flexographic print station capable of printing onto webs that are greater than 18 inches wide was added to Coater D and more than 5 percent of all materials applied onto the web of Coater D in a month occur at the flexographic print station.

A11. Yes. Coater D meets the definition of a wide-web flexographic press that is a Subpart KK affected source, unless it qualifies for the exclusion provided in 40 CFR 63.821(a)(2)(ii). Coater D does not qualify for the exclusion because more than 5 percent of the mass of all materials applied by Coater D is applied by the wide-web flexographic print station.

Q12. Is Coater D a 40 CFR part 63 subpart JJJJ affected source?

A12. No. Coater D meets the MACT Subpart JJJJ definition of a web coating line in 40 CFR 63.3310; however, 40 CFR 63.3300(b) excludes any web coating line that is a “wide-web flexographic press under Subpart KK.” Since Coater D is included in a 40 CFR part 63 subpart KK affected source, it is not a 40 CFR part 63 subpart JJJJ affected source.

Q13. How does the analysis change if in a single month (or permanently) the total mass of materials applied by the print station of Coater D is no more than 5 percent of the total mass of materials applied?

A13. EPA believes that 3M is asking if Coater D's status as a 40 CFR part 63 subpart KK affected source changes if the mass of material applied by the print station in a month subsequently falls below 5 percent of the total mass of materials applied by Coater D. Coater D remains a 40 CFR part 63 subpart KK affected source even if the mass of material applied by the print station in a month subsequently falls below 5 percent of the total mass of materials applied by Coater D. The word “never” in the exclusion at 40 CFR 63.821(a)(2)(ii)(A) means that once the total mass of materials applied in any month exceeds 5 percent of the total mass of material applied in that month, the coating line continues to be a 40 CFR part 63 subpart KK affected source, even if percentage subsequently falls below 5 percent.

Q14. When and how do the emissions standards of the applicable MACT rules apply to Coater D?

A14. The EPA finds this question outside the scope of an applicability determination, because it does not question applicability. Also, EPA interprets the question as: (1) Do the emission standards apply to the entire coating line or just to the flexographic print station? and (2) If the standards apply to the entire line, do they continue to apply even when the flexographic print station is not operating? In general, the emission standards apply to the entire coating line, not just to the flexographic print station, because the print station is part of the flexographic press in 40 CFR 63.822(a) which meets the definition of an affected source under 40 CFR part 63 subpart KK. The emissions standards apply while any part of the coating line is operating even if the flexographic print station is not operating.

Q15. Does the analysis change if the total mass of materials applied by the print station of Coater D has never exceeded in a month 5 percent of the total mass of materials applied by Coater D overall?

A15. The EPA finds this question outside the scope of an applicability determination as it does not question applicability and is contrary to the stated facts. However, in general, Coater D, including the wide-web printing station, meets the definition of a web coating line in 40 CFR 63.3310 and is, therefore, a subpart JJJJ affected source. The section 40 CFR 63.3300(b) excludes any web coating line that is an affected source under 40 CFR part 63 subpart KK. However, an owner/operator could choose exclude Coater D from 40 CFR part 63 subpart KK if the sum of the total mass of materials applied by print stations in any month never exceeded 5 percent of the total mass of materials applied by Coater D in that same month. If the owner/operator chooses to exclude Coater D from 40 CFR part 63 subpart KK, it would remain a 40 CFR part 63 subpart JJJJ affected source. If not excluded, it would be a subpart KK affected source.

Q16. Would Coater D be a 40 CFR part 63 Subpart KK or 40 CFR part 63 subpart JJJJ affected source if the print station were decommissioned or removed from the coating line?

A16. The EPA finds this question outside the scope of an applicability determination. It is hypothetical and does not question applicability. To answer the question, we would need more information on which coating lines remain in operation. However, in general, upon decommissioning or removing the print station, Coater D would no longer meet the criteria for being a wide-web flexographic printing press and, therefore, would no longer be a subpart KK affected source. At that point, Coater D would be a subpart JJJJ affected source as it would no longer qualify for the exclusion in 40 CFR 63.3300(b).

Q17. If an additional web coating line is constructed at the Springfield facility will it be subject to 40 CFR part 63 subpart JJJJ?

A17. The EPA finds this question outside the scope of an applicability determination, because it is hypothetical and does not have actual facts to address applicability. However, in general, 40 CFR part 63 subpart JJJJ, in 40 CFR 63.3300, defines an affected source as: “the collection of all web coating lines at your facility.” Therefore, if a facility is subject to 40 CFR subpart JJJJ, all web coating lines, new or existing, at that facility would be subject to the requirements of the subpart.

Q18. Are the components which are directly associated with Rack A at the 3M manufacturing facility in Hutchinson, Minnesota, while it is being used to unload solvent from Truck A into Tank A, part of an [organic liquid distribution] OLD and/or an miscellaneous coating manufacturing (MCM) affected source? Tank A at the facility is a bulk solvent storage tank where the solvent contains 5 percent weight or more of the organic HAP listed in Table 1 of 40 CFR 63 subpart EEEE. The solvent in Tank A is used exclusively to manufacture coatings and all coatings manufactured at the facility are used exclusively by the coating lines of the facility. Truck A is a tank truck that delivers the solvent to Tank A, and Rack A is a transfer rack that is used to unload the solvent from Truck A into Tank A.

A18. Rack A is a 40 CFR part 63 subpart EEEE affected source when it is being used to unload Truck A because Truck A contains organic liquid (as defined in 40 CFR part 63 subpart EEEE). Therefore, the equipment leak components directly associated with Rack A are 40 CFR part 63 subpart EEEE affected sources when Rack A is being used to unload solvent from Truck A into Tank A. The section 40 CFR part 63 subpart EEEE was written specifically to regulate the distribution of liquids containing 5 percent by weight or more of organic HAP and requires a commensurate level of control. By comparison, 40 CFR part 63 subpart HHHHH was written to regulate liquids with a lower concentration of organic HAP. As a result, the emission limits for 40 CFR part 63 subpart EEEE are more stringent than those in 40 CFR part 63 subpart HHHHH. Because of this different level of stringency, the EPA believes that the facility is more properly subject to 40 CFR part 63 subpart EEEE because the solvent distributed by the facility has 5 percent weight or more of organic HAP, even though the liquid is used to manufacture coatings.

Q19. Are any components directly associated with Truck A, while Truck A is unloading solvent into Tank A, part of an OLD and/or an MCM affected source?

A19. Any equipment leak components directly associated with Truck A are part of an OLD affected source while Truck A is unloading solvent into Tank A. Because the equipment leak components directly associated with Truck A are part of an OLD affected source, they cannot be part of an MCM affected source.

Q20. Is Rack A, while it is being used to unload solvent from Truck A into Tank A, part an OLD and/or an MCM affected source?

A20. Rack A is part of an OLD affected source while it is being used to unload solvent from Truck A into Tank A. Because Rack A is part of an OLD affected source, it cannot be part of an MCM affected source.

Q21. Is Truck A, while unloading solvent into Tank A, part of an OLD and/or an MCM affected source?

A21. Truck A is part of an OLD affected source while unloading solvent into Tank A. Because Truck A is part of an OLD affected source, it cannot be part of an MCM affected source. Also, transport vehicles are not included in the MCM definition of affected sources.

Q22. If either Truck A and/or Rack A are part of an MCM affected source, does the exclusion of affiliated operations at 40 CFR 63.7985(d)(2) affect how the requirements of 40 CFR part 63 subpart HHHHH apply?

A22. Neither Truck A nor Rack A are part of an MCM affected source while Rack A is being used to unload solvent from Truck A to Tank A.

Abstract for [1400020]

Q: Does EPA allow an alternative remedy and corresponding schedule to address methane exceedances above 500 PPM for a landfill gas extraction well at the Settler's Hill Recycling and Disposal Facility (Settler's Hill)/Midway Landfill (Midway) facility located in Batavia, Illinois, subject to the New Source Performance Standards (NSPS) for Municipal Solid Waste Landfills, 40 CFR part 60, subpart WWW?

A: EPA approves the proposed alternative remedy to regrade and compact the clay patch in the area near landfill gas extraction well Midway EX-2, and to import and compact an additional foot of clean clay in that same area. EPA understands that the remedy was carried forth, surface emission monitoring was performed, and no methane exceedances were detected.

Abstract for [A140001]

Q1: The Missouri Department of Natural Resources seeks EPA clarification on whether the 1991 Applicability Determination Index (ADI) document (ADI Number C112) represent EPA's current position on analysis of bulk for asbestos pursuant to the National Emission Standards for Hazardous Air Pollutants (NESHAP) for asbestos?

A1: Yes. The 1991 response for analysis of bulk under the asbestos NESHAP represents EPA's current position. A minimum of three slide mounts should be prepared and examined in their entirety by Polarized Light Microscopy (PLM) to determine if asbestos is present. If the amount by visual estimation appears to be less than 10 percent, the owner and/or operator “may (1) elect to assume the amount to be greater than 1 percent and treat the material as regulated asbestos-containing material or (2) require verification of the amount by point counting.” If a result obtained by point count is different from a result obtained by visual estimation, the point count result will be used.

Q2: Do the EPA interpretations contained in ADI Number C112 extend to non-friable materials that have been or will be rendered into Regulated Asbestos Containing Materials (RACM) by the forces acted on it?

A2: Yes. EPA determined that the requirement for point counting extends to non-friable materials that have been or will be rendered into RACM.

Q3: Would the EPA consider Transmission Electron Microscopy (TEM) analysis as being equally or more effective than Polarized Light Microscopy (PLM) point counting and an acceptable substitute to PLM point counting?

A3. Yes. In a Federal Register notice published on August 1, 1994, at 59 FR 38970, EPA announced that TEM analysis is more capable of producing accurate results than PLM, and thus serves as a preferred substitute to PLM point counting.

Abstract for [A140002]

Q1: Are specific maintenance activities on high voltage electric transmission towers mentioned by URS Corporation facility in San Francisco, California, considered demolitions or renovations under the Asbestos NESHAP, 40 CFR part 61, subpart M?

A1: Based on the provided descriptions, EPA finds that the maintenance activities URS listed in the request are renovations under 40 CFR part 61, subpart M because the activities involve the replacement of lattice extensions and tower legs and not the permanent dismantling of the electrical transmission tower.

Q2: For the described listed renovations, are notifications required for unpainted, galvanized steel?

A2: No. Notifications are not required under the asbestos NESHAP if the owner and/or operator has thoroughly inspected the structure and, (1) determined that the work on the structure is a renovation operation and, (2) that the regulatory threshold amount of regulated asbestos-containing material (RACM) will not be met.

Q3: Would the 15 years of sampling and thousands of sampling results showing non-detection of RACM be sufficient to support no further sampling of towers for RACM?

A3: No. EPA encourages representative sampling of various building materials that are part of a renovation or demolition operation, because such testing enables the owner and/or operator to identify and manage which building materials must be handled in accordance with the asbestos NESHAP. Relying solely on historical analysis and visual inspections may not provide the owner/operator with definitive knowledge, as to whether a specific tower was ever painted with asbestos-containing paint.

Abstract for [M110009]

Q: Does 40 CFR part 63, subpart XXXXXX apply to the metal processing operations at DePuy Orthopedics, Inc. in Raynham, MA (DePuy), which manufactures a broad range of orthopedic solutions, including hip and knee replacement components and operating room products?

A: No. EPA has determined that DePuy is not subject to subpart XXXXXX because it is not primarily engaged in manufacturing products in one of the nine metal fabrication and finishing source categories listed in section 63.11514(a) and Table 1 of the regulation.

Abstract for [M110010]

Q: Do the diesel engines operated at Massachusetts Water Resources Authority (MWRA) facilities in Cambridge, Massachusetts fit the definition of “emergency engines” under 40 CFR part 63 subpart ZZZZ?

A: No. EPA has determined that the engines operated at MWRA's facilities do not meet the definition of emergency stationary for purposes of 40 CFR part 63 subpart ZZZZ, because these engines operate during typical large rainfall events and not only during emergencies or floods. However, the engines must meet the requirements of 40 CFR part 63 subpart ZZZZ applicable to non-emergency engines.

Abstract for [M110011]

Q: Are the precious metals melting operations at Morgan Mill Metals in Johnston, Rhode Island, subject to 40 CFR part 63, subpart TTTTTT?

A: No. EPA has determined that because Morgan Mill Metals only produces precious metal-bearing products and does not produce brass, bronze, or zinc ingots, bars, blocks or metal powders, it does not operate a secondary nonferrous metals processing facility as defined in subpart TTTTTT.

Abstract for [M110012]

Q: The New Hampshire Department of Environmental Services (NH DES) seeks clarification on whether a used wood-fired boiler installed at Pleasant View Gardens (PVG) in Loudon, New Hampshire, is an existing, new, or reconstructed source under 40 CFR part 63 subpart JJJJJJ?

A: EPA determines that PVG's wood-fired boiler is an existing affected source under 40 CFR part 63 subpart JJJJJJ because the boiler was constructed prior to June 4, 2010, the effective date of the rule, and the removal and reinstallation of the boiler did not trigger reconstruction as defined at 40 CFR 63.2. This applicability determination is made in reliance on the accuracy of the information provided to EPA, and does not relieve PVG of the responsibility for complying fully with any and all applicable federal, state, and local laws, regulations, and permits.

Abstract for [M110013]

Q: The Western North Carolina Regional Air Quality Agency (WNC RAQA) seeks EPA clarification on whether the alternative monitoring approach used by an area source in its electrolytic process demonstrate continuous compliance as required by 40 CFR 63.11508(d)(6)of 40 CPR part 63, subpart WWWWWW, Area Source Standards for Platting and Polishing Operations?

A: EPA determines that the monitoring system is acceptable, assuming its operation is inspected and verified by NC RAQA, because the company uses a system that prevents plating from occurring when the tank covers are not in place. Specifically, the tank design and its interlock system ensure that the tank covers are in place at least 95 percent of the electrolytic process operating time.

Abstract for [M110014]

Q1: The West Tennessee Permit Program Division of Air Pollution Control Department of Environment and Conservation (APC DEC) seeks clarification from EPA on whether a facility engaged in open molding operations with mechanical resin and spray gel coat applications, demonstrating compliance under 40 CFR 63.5810(b) of subpart WWWW, NESHAP for Reinforced Plastics Composites Production, is required to demonstrate compliance at the end of a month in which no hazardous air pollutant (HAP) containing materials were applied since it was not operating due to lack of product orders?

A1: Yes. The facility is required to demonstrate compliance at the end of a month in which no HAP containing materials were applied, since the calculation must be “ . . . based on the amounts of each individual resin or gel coat used for the last 12 months.”

Q2: In the event that production does resume at the facility, will it be proper for the facility to include the months in which no HAP containing materials were applied as part of the 12-month period that ends in that month in which production has resumed, or should the facility use only the most recent 11 months in which HAP containing materials were applied plus the month in which production has resumed?

A2: The facility is required to perform the calculation based on the last 12 months, regardless of whether HAP containing materials were applied during those months, whether or not production resumes.

Abstract for [M110016]

Q: Are two electric boilers at the Elm River Lutheran Church in Galesburg, ND, which burn fuel oil as a backup fuel during power outages subject to 40 CFR part 63 subpart JJJJJJ?

A: No. The EPA believes that the intent of the rule is that electric boilers that only burn liquid fuel during a power outage would not be subject to the rule provided that the power outage is beyond the control of the boiler owner or operator.

Abstract for [M110017]

Q: Does EPA approve a revision of the June 2, 2008 Alternative Monitoring Request (AMR) to waive metal, ash, and chlorine feed rate operating parameter limits for the Tooele Chemical Agent Disposal Facility (TOCDF) to allow the processing of 155-mm Projectile bursters?

A: Yes. EPA approves revision of TOCDF's AMP request to process 155-mm Projectile bursters in the deactivation furnace system and to limit and monitor the Projectile feed rate rather than 12 HRA feed rate for mercury, ash, semi- and low-volatile metals, and chlorine required by 40 CFR 63.1209(l), (m), (n), and (o), respectively.

Abstract for [M110018]

Q1: Does EPA approve Huntsman demonstrating compliance with 40 CFR part 63 subpart VVVVVV's, NESHAP for Chemical Manufacturing Area Sources, management practices in 40 CFR 63.11495(a)(3) by inspecting the particulate matter (PM) collection system and baghouses in accordance with 40 CFR 63.11602(a)(2)(ii) of 40 CFR part 63 subpart CCCCCCC, NESHAP for Paints and Allied Products Manufacturing, at its Huntsman Advanced Materials facility in Los Angeles, California, which has several storage vessels subject to subpart VVVVVV and two storage vessels subject to subpart CCCCCCC?

A1: No. EPA determines that the proposal to inspect the PM collection system and baghouses in lieu of inspecting the actual process vessel, cover, and equipment is not acceptable since these are not-overlapping rule requirements along the air emissions path. EPA believes that leaks can occur anywhere along the air emissions path from the mixing vessels to the stack. Therefore, process vessels, covers, and equipment subject to subpart VVVVVV must be inspected according to 40 CFR 63.11495(a)(3).

Q2: Does EPA approve Huntsman's use of one of several proposed alternatives to comply with the ductwork inspection requirements at 40 CFR 63.11495(a)(3) of subpart VVVVVV and 40 CFR 63.11602(a)(2)(ii) of subpart CCCCCCC?

A2: Yes. EPA conditionally approves Huntsman use of Option 1(2) to meet the inspection requirements of the ductwork only, which state: “inspect flexible and stationary ductwork, according to 40 CFR 63.11602(a)(2)(ii), as required, at the specified timeframes whether or not emissions are being actively controlled on every vessel that uses the common control device header.” The condition for approval is that Huntsman must also record which process vessels were in operation during each inspection. Each mixing pot must be operational at least once a year during quarterly inspections and at least once a quarter during weekly inspections.

Q3: Is the rigid cartridge filter Huntsman uses in its baghouses to control PM emissions excluded from the annual inspection requirements of 40 CFR 63.11602(a)(2)(ii)(B) since it does not meet the definition of “fabric filter” in 40 CFR 63.11607, and therefore may be excluded from the annual inspection requirement 40 CFR 63.11602(a)(2)(ii)(B) of subpart CCCCCCC?

A3: Yes. EPA believes the rigid cartridge meets the definition of fabric filter in the rule. In addition, EPA believes that the Huntsman existing preventive maintenance program based on pressure differential established in Condition 5 of the South Coast Air Quality Management District “Permit to Operate” is an acceptable alternative to checking “the condition of the fabric filter.” Huntsman is still required to conduct inspection of the rigid, stationary ductwork for leaks, and of the interior of the dry particulate control unit for structural integrity, according to 40 CFR 63.11602(a)(2)(ii)(B).

Abstract for [M120009]

Q: Does EPA approve a change in test methods, from Method 5 to Methods 201 A and 202, for determining compliance with the particulate emissions standards in 40 CFR 63.1343(b)(1) of NESHAP Subpart LLL for Portland Cement Plants at the Cemex Construction Materials South (Cemex) Portland cement plant located in New Braunfels, Texas?

A: No. EPA does not approve the Cemex request for a change in test methods for determining compliance with the particulate emissions standards in 40 CFR part 63 subpart LLL. Cemex retroactively requested that EPA Region 6 approve a change in test methods, from Method 5 to Methods 201A and 202 after the tests were conducted in January 2011. The use of alternate test methods must be approved in writing in advance of testing. Additionally, EPA Headquarters Office of Air Quality Planning and Standards (OAQPS), who has the delegation to approve these types of changes in test methods, stated that it would not have approved this change in the test method because the alternate method was not acceptable for compliance demonstration under 40 CFR part 63 subpart LLL.

Abstract for [M120013]

Q: Does EPA approve a waiver to monitor only the liquid flow rate (and not pH) through five water absorbers used to control emissions from tank truck loading and storage tanks subject to 40 CFR part 63 subpart NNNNN, at the Dow Chemical Company's (Dow) production facility in Plaquemine, Louisiana?

A: No. EPA believes that more than one parameter should be monitored to provide a more complete determination of control performance. Monitoring liquid flow alone is insufficient to determine control effectiveness. Even in once-through absorbers, measurement of effluent pH ensures that the effluent has not reached the acid saturation concentration limit and is capable of absorbing additional acid vapor. Although 40 CFR part 63 subpart MMM allows either liquid flow rate or pressure drop to be chosen as monitored operating parameters, EPA stated in the response to comments for promulgation of 40 CFR part 63 subpart NNNNN in March 2006 that what applies in 40 CFR part 63 subpart MMM may not be appropriate for facilities subject to 40 CFR part 63 subpart NNNNN.

Abstract for [M120026]

Q: Does EPA approve of comparative temperature monitoring as a type of calibration verification that meets 40 CFR 63.3350(e)(9) of subpart JJJJ, Paper and Other Web Coating NESHAP, at the 3M's Medina, Ohio facility? If not, can this comparative monitoring technique be allowed as an alternative monitoring parameter to the calibration verification requirements?

A: No. EPA finds that that this comparative monitoring is not the same as a calibration verification as specified by 40 CFR part 63 subpart JJJJ. However, EPA can approve it as an alternative monitoring parameter to the calibration verification requirements in 40 CFR 63.3350(e)(9).

Abstract for [M120034]

Q. Will the overhaul of a 4400 horsepower Reciprocating Internal Combustion Engine (RICE) by Fairbanks Morse Engine (FME) facility in Beloit, Wisconsin, trigger reconstruction or modification under 40 CFR part 63, subpart IIII and JJJJ?

A. No. FME overhaul costs of the engine are less than 50 percent of the cost of a comparable new facility, and modification will not be triggered because emissions will not be increased. After the engine is overhauled, the engine might be subject to 40 CFR part 63, subpart ZZZZ depending on how much diesel fuel is used in a calendar year.

Abstract for [M120035]

Q: Is Vesatas' facility in Pueblo, CO subject to the NESHAP Area Source Standards for Nine Metal Fabrication and Finishing Source Categories, 40 CFR part 63 subpart XXXXXX, and is Vestas subject to the notification, recordkeeping, and reporting requirements of the regulation?

A. No. EPA finds that Vesatas' facility is not subject to 40 CFR part 63 subpart XXXXXX because it is not a major source of hazardous air pollutants (HAP), and the rule applies to area sources as specified at 40 CFR 63.11514. Because Vestas is not subject to 40 CFR part 63 subpart XXXXXX, Vestas would not be subject to the notification, record-keeping, and reporting requirements of the regulation.

Abstract for [M130003]

Q. Does EPA approve the petition to waive the initial performance testing for four identical reciprocating internal combustion engines (RICE) at the Saint-Gobian Containers, Inc., Burlington, Wisconsin plant?

A: Yes. EPA approves the petition to waive the initial performance testing provided that the company can show the units are similar, burn the same fuel, and otherwise meet the criteria contained in EPA's stack testing guidance dated September 30, 2005.

Abstract for [M140001]

Q: Does EPA approve a request to establish a minimum combustion air pressure of 20 inches of water column on an instantaneous basis based upon operating experience as the liquid waste firing system (WFS) operating parameter limit (OPL) at the Lubrizol Corporation's Painesville facility in Ohio?

A: Yes. EPA approves Lubrizol's request to establish a minimum combustion air pressure of 20 inches of water on an instantaneous basis at all times while feeding liquid waste for its WFS OPL. EPA determined that the proposed waste firing system OPL ensures that the same or greater surface area of the waste is exposed to combustion conditions (e.g., temperature and oxygen) during normal operating conditions, as the incinerator demonstrated during the 2003 destruction and removal efficiency test.

Abstract for [M140002]

Q1. Is the MSW Power gasification unit located at the MSW Power Corporation's (MSW Power's) Green Energy Machine located at the Plymouth County Correctional Facility in Plymouth, Massachusetts subject to 40 part 60 subpart EEEE?

A1. No. EPA has determined that because of the energy recovery exemption in the definition of institutional waste, MSW Power gasification unit is not subject to 40 part 60 subpart EEEE while it is processing waste generated by the Plymouth County Correctional Facility and located on their grounds.

Q2. Is the MSW Power boiler which combusts only syngas generated by the gasifier subject to 40 part 63 subpart JJJJJJ?

A2. No. EPA has determined that because the MSW Power boiler burns only syngas, a gaseous fuel, the boiler is a gas-fired boiler as defined in the rule and therefore it is not subject to 40 part 63 subpart JJJJJJ.

Abstract for [M140003]

Q1. Is the Jacobs Vehicle Systems facility located in Bloomfield, Connecticut (Jacobs Vehicle), subject to 40 CFR part 63 subpart T if it does not use and it has no present intention of using any of the listed hazardous air pollutants (HAP) solvents in its degreaser in the future?

A1. No. EPA determines that because Jacobs Vehicle has certified that it no longer uses any of the listed HAP solvents due to switching degreasers and based on its commitment that it will continue in that mode for the foreseeable future, Jacobs Vehicle's degreasers and Jacobs Vehicle's facility are no longer subject to 40 CFR part 63 subpart T.

Q2. May Jacobs Vehicle take potential to emit restrictions to below major HAP source levels and no longer be subject to 40 CFR part 63 subpart PPPPP?

A2. Yes. EPA determines that Jacobs Vehicle may now limit its potential to emit to below major HAP source levels and no longer be subject to 40 CFR part 63 subpart PPPPP. Jacobs Vehicle test cells are an existing affected source subject to subpart PPPPP, because these were constructed before May 14, 2002, and not reconstructed after May 14, 2002, but do not have to meet an emission limitation or other substantive rule requirements. Since subpart PPPPP does not set a substantive compliance date for Jacobs Vehicle to comply with an emission limit or other substantive rule requirement for its Jacobs Vehicle test cells, the EPA's general policy referred to as “once in, always in” policy would not apply. EPA's “once in, always in” policy is that sources that are major on the first substantive compliance date of a NESHAP (and, therefore, subject to the requirements of the NESHAP that apply to major sources) remain major sources for purposes of that NESHAP from that point forward, regardless of the level of their potential HAP emissions after that date.

Q3. If Jacobs Vehicle takes facility wide potential to emit restrictions to below major HAP source levels, would its existing compression ignition engine become subject to the area source provisions of 40 CFR part 63 subpart ZZZZ?

A3. Yes. EPA's “once in, always in” policy would allow Jacobs Vehicle to take restrictions on its facility-wide potential to emit to below major HAP source levels and become an area source of HAP for purposes of 40 CFR part 63 subpart ZZZZ applicability before the first compliance date of May 3, 2013. If Jacobs Vehicle were to do so before May 3, 2013, its compression ignition engine would then be subject to the requirements for engines located at an area source of HAP.

Q4. If Jacobs Vehicle takes facility wide potential to emit restrictions to below major HAP source levels, would its existing boilers no longer be subject to 40 CFR part 63 subpart DDDDD? Would the existing boilers then become subject to the area source provisions of 40 CFR part 63 subpart JJJJJJ?

A4. Yes. EPA's “once in, always in” policy would allow Jacobs Vehicle to take restrictions on its facility-wide potential to emit to below major HAP source levels to become an area source of HAP and no longer be subject to 40 CFR part 63 subpart DDDDD before the first compliance date of 40 CFR part 63 subpart DDDDD. Because Jacobs Vehicle's boilers meet the definition of gas-fired boilers, provided they continue to do so, the boilers would not be subject to 40 CFR part 63 subpart JJJJJJ if Jacobs Vehicle became an area source of HAP.

Abstract for [M140004]

Q: Does EPA approve ExxonMobil's alternative monitoring plan (AMP) request for calculating the sulfur dioxide emissions from two refinery Fluid Catalytic Cracking Units during Wet Gas Scrubber emission control device malfunctions or down time, in accordance with 40 CFR part 63 subpart UUU, at ExxonMobil's Baton Rouge, Louisiana refinery?

A: No. EPA does not approve ExxonMobil's AMP request. EPA determined that the request was not a rule-based proposal related to ExxonMobil's inability to meet existing 40 CFR part 63 subpart UUU provisions, but rather, a proposed alternative method to meet Consent Decree requirements that are separate from compliance with the rule.

Abstract for [M140005]

Q: Does EPA approve ExxonMobil's Alternative Monitoring Plan (AMP) for calculating the flue gas flow rate on two refinery Fluid Catalytic Cracking Units (FCCU), in lieu of direct measurement, to demonstrate initial and continuous compliance with the metal emission standard of 40 CFR 63.1564(a)(1)(iv), described as Option 4 in 40 CFR part 63 subpart UUU, and in accordance with Tables 1, 2, 6 and 7 of the final rule for Option 4, at ExxonMobil's Baton Rouge, Louisiana refinery?

A: Yes. EPA conditionally approves ExxonMobil's AMP request, as described in the EPA response letter. The maximum acceptable difference in stack-test measured and calculated total flue gas flow rate values shall be within ± 7.5 percent. Evaluation and adjustment of affected process monitors must be completed within three months of a stack testing event that resulted in a difference value greater than ± 7.5 percent. If any three consecutive stack testing events result in the need for corrective action adjustments, ExxonMobil must conduct a new stack test within ninety days of the third corrective action implementation in order to verify that the gas flow rate correlation and calculation method are still valid. ExxonMobil should ensure that this approval is referenced and attached to the facility's new source review and Title V permits for federal enforceability and is included in the refinery's Consent Decree.

Abstract for [Z120003]

Q: Are sour water streams managed upstream of a refinery sour water stripper at the Flint Hills Resources Corpus Christi East Refinery in Tulsa, Oklahoma subject to the Benzene Waste Operations 40 CFR part 61 subpart FF?

A: Yes. EPA has determined that the facility must comply with the requirements of 40 CFR part 61 subpart FF for sour water streams managed upstream of a sour water stripper based on the characteristics of the waste streams at the point that the waste water exits the sour water stripper. At facilities with total benzene equal to or greater than 10 megagram per year, all benzene-contaminated wastes are subject to the control requirements of 40 CFR part 61 subpart FF, not just the end waste streams counted toward the total annual benzene amount. EPA's response is based on the 1993 rule amendments which were issued after the March 21, 1991 letter from EPA to the American Petroleum Institute that Flint Hills' mentioned in the request.

Abstract for [Z130002]

Q1: Does the Area Source Boiler Rule, NESHAP subpart JJJJJJ exempt steam boilers that service mixed residential and commercial facilities from regulation?

A1: Yes. EPA clarifies to the National Oilheat Research Alliance that if a boiler meets the definition in 40 CFR 63.11237 of a residential boiler, it is not subject to the requirements of the Area Source Boiler Rule. In that definition, the boiler must be “primarily used to provide heat and/or hot water for: (1) A dwelling containing four or fewer families, or (2) A single unit residence dwelling that has since been converted or subdivided into condominiums or apartments.” EPA intends “primarily” to be interpreted as its common meaning. Therefore, a mixed-use facility must have a majority of the heat and/or hot water produced by the boiler allocated to the residential unit or units. One way a facility could demonstrate primary use is by showing that a majority of the facility's square footage is residential, but EPA recognizes that there may be other ways for a facility to demonstrate primary use.

Q2: Does the Area Source Boiler Rule define mixed residential and commercial buildings as strictly commercial or residential in use?

A2: No. EPA recognizes that some buildings may be used for a variety of uses. The nature of the building is only relevant in terms of determining whether a boiler is primarily used to service the commercial or residential facilities located within the building.

Abstract for [Z130003]

Q: Does EPA approve of the use of closed/covered chromium electroplating and anodizing tanks at the Southern Graphics Systems, Inc, Waukesha, Wisconsin facility in order to satisfy the requirement of a “physical barrier” per the “housekeeping practice” provisions in 40 CFR part 63 subpart N?

A: Yes. EPA conditionally approves the use of closed/covered chromium electroplating and anodizing tanks in order to satisfy the physical barrier requirement of 40 CFR part 63 subpart N. This approval is conditioned upon these tanks being closed/covered at all times buffing, grinding and polishing operations take place; and, the surface area of the tanks is a hundred percent covered, with no visible gaps on the top or side of the tank, except for ventilation inlets routed to a control device under negative pressure.

Abstract for [Z140001]

Q: Does EPA approve Colonial Pipeline Company's alternative monitoring request for use of top-side in-service inspections to meet the out-of-service inspection requirements for specific types of internal floating roof tanks with uniform and specific roof, deck, and seal configurations at several facilities, subject to several gasoline distribution (GD)-related regulations (40 CFR part 63, subpart R (GD MACT) and 40 CFR part 63, subpart BBBBBB (GD GACT) and/or 40 CFR part 60, subpart Kb, NSPS for Volatile Organic Liquid Storage Vessels)?

A: Yes. EPA approves Colonial's top-side in-service internal inspection methodology for the IFR tanks specified in the AMP request, which have uniform and specific roof, deck, and seal configurations, to meet the NSPS Kb internal out-of-service inspection required at intervals no greater than 10 years by the applicable regulations. EPA has determined that for the specified IFR storage tanks (tanks that are full contact, aluminum honeycomb panel constructed decks with mechanical shoe primary and secondary seals in tanks with geodesic dome roofs equipped with skylights), Colonial will be able to have visual access to all of the requisite components (i.e., the primary and secondary mechanical seals, gaskets, and slotted membranes) through the top side of the IFR storage tanks, as well as properly inspect and repair the requisite components while these tanks are still in service, consistent with the inspection and repair requirements established under NSPS Subpart Kb. In addition, Colonial's top-side in-service internal inspection methodology includes more stringent requirements than would otherwise be applicable to the IFR storage tanks specified in the AMP request. Colonial has agreed to (1) identifying and addressing any gaps of more than 1/8 inch between any deck fitting gasket, seal, or wiper and any surface that it is intended to seal; comply with the fitting and deck seal requirements and the repair time frame requirement in NSPS Subpart Kb for all tanks, including GACT tanks; and implement a full top-side and bottom-side out-of-service inspection of the tank each time an IFR storage tank is emptied and degassed for any reason.

Abstract for [Z140002]

Q: Are solvent transfer racks and transport equipment, which are dedicated for the use of unloading hexane from transport vehicles to a vegetable oil production plant, located at the PICO Northstar Hallock facility (PICO Hallock) in Minnesota, subject to part 63, subpart GGGG, Solvent Extraction for Vegetable Oil Production NESHAP or to subpart EEEE, Organic Liquids Distribution (Non-Gasoline) National Emission Standards for Hazardous Air Pollutants?

A: EPA agrees that the PICO Hallock solvent transfer racks and equipment are subject to 40 CFR part 63 subpart GGGG and are not subject to 40 CFR part 63 subpart EEEE, because they would fall under the definition of “Vegetable oil production process” in the rule. Although solvent transfer racks and equipment which are dedicated for the use of unloading hexane from transport vehicles to a vegetable oil production facility are not explicitly mentioned in the definition of vegetable oil production process in 40 CFR part 63 subpart GGGG, they should be considered part of the “equipment comprising a continuous process for producing crude vegetable oil and meal products” when they are used solely to support the vegetable oil production process. EPA believes that the information provided by PICO Hallock confirms that the solvent transfer racks at the facility are exclusively used for this limited purpose.

Abstract for [Z140003]

Q: Does EPA approve United Services Automobile Association's (USAA) petition for additional testing hours under 40 CFR 60.4211(f), for additional maintenance checks and readiness testing hours of six emergency generator internal combustion engines at USAA's San Antonio, Texas headquarters facility?

A: Yes. EPA conditionally approves USAA's request. USAA demonstrated that extensive testing and maintenance of the emergency generators is required to ensure electrical continuity and reliability for maintaining critical operations in a continuous standby mode for immediate emergency use. EPA granted conditional approval of additional testing and maintenance hours on the six engines, provided that the facility maintains documentation to show that the additional hours are not used for meeting peak electrical demand.

Abstract for [XXXX]

Q: Does EPA approve an extension of the initial performance test deadline for a new biomass-fired cogeneration boiler (boiler) due to a force majeure event at the Nippon Paper Industries USA Corporation, Ltd. (NPIUSA) facility in Port Angeles, Washington?

A: Yes. EPA determines that a force majeure event, as defined in 40 CFR part 60, subpart A and 40 CFR part 63, subpart A, has occurred and that an extension of the performance test deadline under the applicable federal standards is appropriate. The inability to meet the performance test deadline was caused by circumstances beyond the control of NPIUSA, its contractors, or any entity controlled by NPIUSA and therefore constitutes a force majeure as defined in 40 CFR 60.2 and 63.2. The letters and supporting documentation submitted by NPIUSA provided timely notice, described the claimed force majeure event and why the event prevents NPIUSA from meeting the deadline for conducting the performance testing, what measures are being taken to minimize the delay, and NPIUSA's proposed date for conducting the testing. The EPA therefore believes it is appropriate to extend the performance test deadline.

Dated: August 22, 2014.
Lisa Lund,
Director, Office of Compliance.

[FR Doc. 2014-20895 Filed 9-2-14; 8:45 am]

BILLING CODE 6560-50-P